FEDERAL RETIREMENT THRIFT INVESTMENT BOARD

Sunshine Act; Notice of Meeting

Agenda

Federal Retirement Thrift Investment Board Member Meeting

77 K Street NE., Board Meeting Room—10th Floor Washington, DC 20002

Date: March 29, 2016.

Time: 8:30 a.m. (In-Person). Parts will be open to the public and parts will be closed to the public.

MATTERS TO BE CONSIDERED:

Open Session

1. Approval of the Minutes of the February 22, 2016 Board Member Meeting

2. Monthly Reports

(a) Participant Activity Report

(b) Investment Performance Report

(c) Legislative Report

3. Office of Enterprise Risk Management Report

Close Session

4. Security

Adjourn

CONTACT PERSON FOR MORE INFORMATION: Kimberly Weaver, Director, Office of External Affairs, (202) 942-1640.

Dated: March 21, 2016.
Megan Grumbine,
General Counsel, Federal Retirement Thrift Investment Board.

[FR Doc. 2016-06699 Filed 3-21-16; 4:15 pm]

BILLING CODE P